DEPARTMENT OF DEFENSE

Department of the Army, Corps of Engineers

Inland Waterways Users Board; Notice of Federal Advisory Committee Meeting

AGENCY: Department of the Army, U.S. Army Corps of Engineers, DoD.

ACTION: Notice; correction.

SUMMARY: The notice of an open meeting scheduled for August 30, 2018 published in the Federal Register on July 11, 2018 has a new date and time. The meeting will now be held on August 28, 2018 at 1:00 p.m.

DATES: The Inland Waterways Users Board will meet from 1:00 p.m. to 5:00 p.m. on August 28, 2018. Public registration will begin at 12:15 p.m.

FOR FURTHER INFORMATION CONTACT: Mr. Mark R. Pointon, the Designated Federal Officer (DFO) for the committee, in writing at the Institute for Water Resources, U.S. Army Corps of Engineers, ATTN: CEIWR-GM, 7701 Telegraph Road, Casey Building, Alexandria, VA 22315-3868; by telephone at 703-428-6438; and by email at Mark.Pointon@usace.army.mil. Alternatively, contact Mr. Kenneth E. Lichtman, the Alternate Designated Federal Officer (ADFO), in writing at the Institute for Water Resources, U.S. Army Corps of Engineers, ATTN: CEIWR-GW, 7701 Telegraph Road, Casey Building, Alexandria, VA 22315-3868; by telephone at 703-428-8083; and by email at Kenneth.E.Lichtman@usace.army.mil.

SUPPLEMENTARY INFORMATION: None.

Brenda S. Bowen,
Army Federal Register Liaison Officer.

[FR Doc. 2018-17157 Filed 8-9-18; 8:45 am]

BILLING CODE 3720-58-P